DEPARTMENT OF THE INTERIOR

Fish and Wildlife Service

Proposed Low-Effect Quino Checkerspot Butterfly Habitat Conservation Plan for the San Diego Gas and Electric Company, San Diego, Riverside, and Orange Counties, CA

AGENCY: Fish and Wildlife Service, Interior.

ACTION: Notice of availability.

SUMMARY: We, the U.S. Fish and Wildlife Service (Service), have received an application from the San Diego Gas and Electric Company (Applicant) for a 40-year incidental take permit for one covered species pursuant to section 10(a)(1)(B) of the Endangered Species Act of 1973, as amended (Act). The application addresses the potential for “take” of the federally endangered Quino checkerspot butterfly (Euphydryas editha quino) associated with the operation and maintenance of the existing gas and electric system, and construction of new facilities. A conservation program to mitigate for the project activities would be implemented by the Applicant as described in the Quino Checkerspot Butterfly Habitat Conservation Plan for the San Diego Gas and Electric Company, San Diego, Riverside and Orange Counties, California (Plan), which would be implemented by the Applicant.

We are requesting comments on the permit application and on the preliminary determination that the proposed Plan qualifies as a “low-effect” Habitat Conservation Plan, eligible for a categorical exclusion under the National Environmental Policy Act (NEPA) of 1969, as amended. The basis for this determination is discussed in the Environmental Action Statement and the associated Low Effect Screening Form (Screening Form), which is also available for public review.

DATES: Written comments should be received on or before April 12, 2007.

ADDRESSES: Comments should be addressed to the Field Supervisor, Fish and Wildlife Service, Carlsbad Fish and Wildlife Office, 6010 Hidden Valley Road, Carlsbad, CA 92011. Written comments may be sent by facsimile to (760) 431-5901.

FOR FURTHER INFORMATION CONTACT: Mr. Chris Otahal, Fish and Wildlife Biologist, Carlsbad Fish and Wildlife Office (see ADDRESSES); telephone (760) 431-9440.

SUPPLEMENTARY INFORMATION:

Availability of Documents

Individuals wishing copies of the application, proposed Plan, and Screening Form should immediately contact the Service by telephone at (760) 431-9440 or by letter to the Carlsbad Fish and Wildlife Office. Copies of the proposed Plan and Screening Form also are available for public inspection during regular business hours at the Carlsbad Fish and Wildlife Office (see ADDRESSES).

Background

Section 9 of the Act (16 U.S.C. 1531 et. seq.) and its implementing Federal regulations prohibit the take of animal species listed as endangered or threatened. Take is defined under the Act as to harass, harm, pursue, hunt, shoot, wound, kill, trap, capture, or collect listed animal species, or to attempt to engage in such conduct (16 U.S.C. 1538). However, under section 10(a) of the Act, the Service may issue permits to authorize incidental take of listed species. “Incidental take” is defined by the Act as take that is incidental to, and not the purpose of, carrying out an otherwise lawful activity. Regulations governing incidental take permits for threatened and endangered species, respectively, are found in the Code of Federal Regulations at 50 CFR 17.22 and 50 CFR 17.32.

The Applicant is seeking a permit for take of the Quino checkerspot butterfly during the life of the permit. This species is referred to as the “QCB” in the proposed Plan.

The Applicant proposes to grade existing gas and electrical transmission line access roads, many of which have not been graded in a number of years and now support QCB habitat, and conduct other activities such as construction of new facilities, equipment repair and replacement, insulator washing, tree trimming, maintenance of fire control areas, pole in-setting, and pole brushing. With the exception of road grading and construction of new facilities, operation and maintenance activities are expected to result in temporary impacts to QCB habitat. The Applicant proposes habitat restoration and enhancement in areas temporarily impacted, where appropriate, as specified in the Plan. Additionally, the Applicant's operation and maintenance activities typically result in minor impacts to the landscape (i.e., impacts are usually measured in square-feet) and are spread over a broad area, which will reduce the level of significance of potential impacts to QCB habitat. Impacts of maintenance and operation activities will also spread over a 40-year period, thus providing an opportunity for habitat re-establishment and, in some areas, minimizing potential take from repetitive impacts within the same location. Up to 33 acres of QCB habitat may be lost through implementation of the Plan over 40 years. The Applicant estimates 15 of the 33 acres of potential impacts to QCB habitat will result from road grading, and that other activities (e.g., new construction, pole brushing, and pole in-setting) will account for the remaining 18 acres of potential impact. These impacts would occur in unoccupied QCB habitat; occupied QCB habitat; and QCB critical habitat as outlined in the Plan.

The Applicant proposes to mitigate the effects to QCB by fully implementing the Plan. The Plan emphasizes protection of habitat through impact avoidance and use of operational protocols, designed to avoid or minimize impact to QCB. The Applicant will supplement these operational protocols, or avoidance and minimization measures, with habitat restoration and enhancement measures, and other mitigation. The Applicant proposes to implement general and QCB-specific operational protocols, designed to avoid or minimize take of QCB. To mitigate temporary impacts, QCB habitat will be enhanced or restored, where appropriate. To mitigate for permanent impacts, the Applicant will implement one of the following mitigation measures: (1) Pay into a QCB habitat fund; the money will be used to benefit QCB through the acquisition, restoration, or enhancement of QCB habitat; (2) Enhance an unallocated portion of the Applicant's existing mitigation parcel for the benefit of QCB; (3) Purchase credits from a to-be-established Quino checkerspot butterfly bank, should one be approved by the Service in the future; or (4) Acquire a mitigation parcel that supports or could support QCB. Specific details regarding these mitigation measures may be found in the Plan.

The Proposed Action consists of the issuance of an incidental take permit and implementation of the proposed Plan, which includes measures to mitigate impacts of the proposed activities on QCB. Two alternatives to the proposed action are considered in the Plan. Under the No Action Alternative, no permit would be issued and the Applicant would avoid take of QCB; however, avoidance of impacts will not be possible for some of the Applicant's projects, which would preclude some critical projects from being completed or require the Applicant to seek individual take authorizations. Under this alternative, conservation measures would likely be developed on a case-by-case basis at the time that a project required take authorization. Under the Project-by-Project Alternative, take of QCB would be addressed either through section 7 or 10 of the Act on a project-by-project basis, but with a common set of minimization and mitigation measures developed in advance. The proposed Plan provides more comprehensive conservation of QCB than either of the two alternatives. In addition, the proposed Plan would be more efficient and would provide the Applicant with long-term predictability concerning the nature of its operations for which incidental takings are permitted, avoiding potential facility-compromising delays.

The Service has made a preliminary determination that approval of the proposed Plan qualifies as a categorical exclusion under NEPA, as provided by the Department of the Interior Manual (516 DM 2, Appendix 1 and 516 DM 6, Appendix 1) and as a “low-effect” plan as defined by the Habitat Conservation Planning Handbook (November 1996). Determination of Low-effect Habitat Conservation Plans is based on the following three criteria: (1) Implementation of the proposed Plan would result in minor or negligible effects on federally listed, proposed, and candidate species and their habitats; (2) Implementation of the proposed Plan would result in minor or negligible effects on other environmental values or resources; and (3) Impacts of the proposed Plan, considered together with the impacts of other past, present, and reasonably foreseeable similarly situated projects, would not result, over time, in cumulative effects to environmental values or resources that would be considered significant.

Based upon this preliminary determination, we do not intend to prepare further NEPA documentation. We will consider public comments in making the final determination on whether to prepare such additional documentation.

Public Review

Written comments from interested parties are welcome to ensure that the issues of public concern related to the proposed action are identified. Comments and materials received will be available for public inspection, by appointment, during normal business hours at the office listed in the ADDRESSES section of this notice. All comments and materials received, including names and addresses, will become part of the administrative record and may be released to the public.

Our practice is to make comments, including names, home addresses, home phone numbers, and e-mail addresses of respondents, available for public review. Individual respondents may request that we withhold their names and/or homes addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organization or businesses, and from individuals identifying themselves as representatives of or officials of organizations or businesses, available for public inspection in their entirety.

This notice is provided pursuant to section 10(c) of the Act. We will evaluate the permit application, the proposed Plan, and comments submitted thereon to determine whether the application meets the requirements of section 10(a) of the Act. If the requirements are met, we will issue a permit to the Applicant for the incidental take of the Quino checkerspot butterfly associated with the operation and maintenance of the existing gas and electric system and construction of new facilities within San Diego, Riverside and Orange Counties, California.

Dated: March 7, 2007.
Jim A. Bartel,
Field Supervisor, Carlsbad Fish and Wildlife Office, Carlsbad, California.

[FR Doc. E7-4531 Filed 3-12-07; 8:45 am]

BILLING CODE 4310-55-P